ENVIRONMENTAL PROTECTION AGENCY

[FRL-9223-5]

Clean Water Act Section 303(d): Availability of List Decisions

AGENCY: Environmental Protection Agency (EPA).

ACTION: Notice of availability.

SUMMARY: This action announces the availability of EPA decisions identifying water quality limited segments and associated pollutants in California to be listed pursuant to Clean Water Act section 303(d)(2), and requests public comment. Section 303(d)(2) requires that States submit and EPA approve or disapprove lists of waters for which existing technology-based pollution controls are not stringent enough to attain or maintain State water quality standards and for which total maximum daily loads (TMDLs) must be prepared.

On November 9, 2010, EPA approved California's 2008-2010 submitted 303(d) list of impaired waters and associated pollutants and disapproved California's decisions not to list several water quality limited segments as impaired and additional associated pollutants for several others. EPA identified these additional water bodies and pollutants for inclusion on the State's 2008-2010 section 303(d) list. The waterbodies and associated pollutants are identified in Table 1 of the decision document available at the Web site link provided below.

EPA is providing the public the opportunity to review its decisions to add waters and pollutants to California's 2008-2010 section 303(d) list, as required by EPA's Public Participation regulations. EPA will consider public comments received, and may revise its decision if appropriate. EPA solicits public comment only on the additional waters and associated pollutants for inclusion on California's 2008-2010 Section 303(d) list.

DATES: Comments must be submitted to EPA on or before December 9, 2010.

FOR FURTHER INFORMATION CONTACT: Comments on the proposed decisions should be sent to Valentina Cabrera Stagno, Water Division (WTR-2), U.S. Environmental Protection Agency Region IX, 75 Hawthorne Street, San Francisco, CA 94105, telephone (415) 972-3434, facsimile (415) 947-3537, e-mail cabrera-stagno.valentina@epa.gov. Oral comments will not be considered. Material concerning California's 303(d) list which explain the rationale for EPA's decisions are available on EPA Region IX's Web site at http://www.epa.gov/region9/water/tmdl/california.html or by writing or calling Valentina Cabrera Stagno. Underlying documentation comprising the record for these decisions is available for public inspection at the above address.

SUPPLEMENTARY INFORMATION: Section 303(d) of the Clean Water Act (CWA) requires that each State identify those waters for which existing technology-based pollution controls are not stringent enough to attain or maintain State water quality standards. For those waters, States are required to establish TMDLs according to a priority ranking.

EPA's Water Quality Planning and Management regulations include requirements related to the implementation of Section 303(d) of the CWA (40 CFR 130.7). The regulations require States to identify water quality limited waters still requiring TMDLs every two years. The lists of waters still needing TMDLs must also include priority rankings and must identify the waters targeted for TMDL development during the next two years (40 CFR 130.7). Consistent with EPA's regulations, EPA received California's submittal of its listing decisions under Section 303(d)(2) on October 15, 2010.

Dated: November 1, 2010.
Alexis Strauss,
Director, Water Division, Region IX.

[FR Doc. 2010-28263 Filed 11-8-10; 8:45 am]

BILLING CODE 6560-50-P